DEPARTMENT OF HOUSING AND URBAN DEVELOPMENT

[Docket No. FR-7070-N-50]

30-Day Notice of Proposed Information Collection; Comment Request Fair Housing Initiatives Program Grant Application and Monitoring Reports, OMB Control No.: 2529-0033

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: September 28, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 451 7th Street SW, Washington, DC 20410; email; Colette.Pollard@HUD.gov or telephone 202-402-3400. This not a toll free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on April 3, 2023, at 88 FR 19659.

A. Overview of Information Collection

Title of Information Collection: Fair Housing Initiatives Program.

OMB Approval Number: 2529-0033.

Type of Request: Extension of currently approved collection.

Form Number: HUD 904 A, B and C, SF-425, SF-424, SF-LLL, HUD-2880, HUD-2990, HUD-2993, HUD-424CB, HUD-424-CBW, HUD2994-A, HUD-96010, and HUD-27061.

Description of the need for the information and proposed use: The collection is needed to allow the Fair Housing Initiatives Program (FHIP) to request information necessary to complete a grant application package during the Notice of Funding Opportunity (NOFO) grant application process. The collection is used to assist the Department in effectively evaluating grant application packages to select the highest ranked applications for funding to carry out fair housing enforcement and/or education and outreach activities under the following FHIP initiatives: Private Enforcement, Education and Outreach, and Fair Housing Organization. The collection is also needed for the collection of post-award reports and other information used to monitor grants and report grant outcomes. Information collected from quarterly and final progress reports and enforcement logs will enable the Department to evaluate the performance of agencies that receive funding and determine the impact of the program on preventing and eliminating discriminatory housing practices.

Respondents: Fair Housing Enforcement Organizations, Fair Housing organizations, non-profit and other organizations eligible to apply for FHIP funding.

Information collection | Number of respondents | Frequency of response | Responses per annum | Burden hour per response | Annual burden hours | Hourly cost per response | Annual cost
Application Development | 400 | 1 | 400 | 71.20 | 28,480 | $30.00 | $854,400
Quarterly Report | 142 | 4 | 568 | 19 | 10,792 | 30.00 | 323,760
Supplemental Outcome Report | 142 | 1 | 142 | 19 | 2,698 | 30.00 | 80,940
Enforcement Log | 98 | 4 | 392 | 7 | 2,744 | 30.00 | 82,320
Final Report | 142 | 1 | 142 | 20 | 2,840 | 30.00 | 85,200
Recordkeeping | 142 | 1 | 142 | 21 | 2,982 | 30.00 | 89,460
Total | 1,066 | 12 | 1,786 | 157.20 | 50,536 | 30.00 | 1,516,080

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of formation technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-18576 Filed 8-28-23; 8:45 am]

BILLING CODE P